DEPARTMENT OF THE INTERIOR

Fish and Wildlife Service

[Docket No. FWS-HQ-IA-2018-0113; FXIA16710900000-178-FF09A30000]

Foreign Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act.

ADDRESSES: Information about the applications for the permits listed in this notice is available online at www.regulations.gov. See SUPPLEMENTARY INFORMATION for details.

FOR FURTHER INFORMATION CONTACT: Brenda Tapia, by phone at 703-358-2104, via email at DMAFR@fws.gov, or via the Federal Relay Service at 800-877-8339.

SUPPLEMENTARY INFORMATION: We, the U.S. Fish and Wildlife Service (Service), have issued permits to conduct certain activities with endangered and threatened species in response to permit applications that we received under the authority of section 10(a)(1)(A) of the Endangered Species Act of 1973 (ESA; 16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table.

Permit No. | Applicant | Permit issuance date
76759C | San Diego Zoo Global | July 31, 2018.
030006 | Paul Bodnar | August 23, 2018.
704025 | H & L Sales, Inc | September 10, 2018.
31792C | Lacy Harber | October 1, 2018.
62275C | Dub Wallace Ranch, LLC | October 10, 2018.
63016C | Dub Wallace Ranch, LLC | October 10, 2018.
78622C | Regents of University of Minnesota | November 2, 2018.
89124A | St. Catherine's Island Foundation | November 2, 2018.
77544C | Mountain Gorilla Veterinary Project (MGVP, Inc.) | November 2, 2018.
53023C | North Carolina State University | November 13, 2018.
43635C | Erich D. Jarvis & Oliver Fedrigo | November 13, 2018.
85311C | International Crane Foundation | November 13, 2018.
698170 | Field Museum of Natural History | November 19, 2018.
15316B | Rancho Santa Ana Botanic Garden | November 19, 2018.
84873C | Louisiana State University Shirley C. Tucker Herbarium | November 19, 2018.
03596B | Coastal Exotics Inc | November 27, 2018.
75297A | Dos Hijos Ranch—Operations, Inc | November 27, 2018.
88649A | Circle E. Ranch | November 27, 2018.
88651A | Circle E. Ranch | November 27, 2018.
88044A | Double Arrow Bow Hunting | November 28, 2018.
88038A | Double Arrow Bow Hunting | November 28, 2018.
59230C | Indiana University—Purdue University Fort Wayne | November 28, 2018.

Authorities

We issue this notice under the authority of the Endangered Species Act, as amended (16 U.S.C. 1531 et seq.), and its implementing regulations.

Brenda Tapia,
Program Analyst/Data Administrator, Branch of Permits, Division of Management Authority.

[FR Doc. 2019-08582 Filed 4-26-19; 8:45 am]

BILLING CODE 4333-15-P